DEPARTMENT OF THE TREASURY

Office of the Comptroller of the Currency

[Docket ID OCC-2022-0023]

FEDERAL RESERVE SYSTEM

[Docket No. OP-1793]

FEDERAL DEPOSIT INSURANCE CORPORATION

RIN 3064-ZA32

Rescission of Principles for Climate-Related Financial Risk Management for Large Financial Institutions

AGENCY: Office of the Comptroller of the Currency, Treasury, Board of Governors of the Federal Reserve System, and Federal Deposit Insurance Corporation.

ACTION: Rescission of final interagency guidance.

SUMMARY: The Office of the Comptroller of the Currency, Treasury (OCC), the Board of Governors of the Federal Reserve System (Board), and the Federal Deposit Insurance Corporation (FDIC) (collectively, the agencies) are rescinding the interagency Principles for Climate-Related Financial Risk Management for Large Financial Institutions.

DATES: The interagency guidance published at 88 FR 74183 (October 30, 2023) is rescinded as of November 18, 2025.

FOR FURTHER INFORMATION CONTACT:

OCC: Russell D'Costa, Program Analyst, Office of the Chief National Bank Examiner, (202) 649-8283; Melissa Love-Greenfield, Deputy Comptroller for Systemic Risk Identification and Support, Office of the Chief National Bank Examiner; Madelyn Tynan, Counsel, Chief Counsel's Office, (202) 649-5490, Office of the Comptroller of the Currency, 400 7th Street SW, Washington, DC 20219. If you are deaf, hard of hearing, or have a speech disability, please dial 7-1-1 to access telecommunications relay services.

Board: Anna Lee Hewko, Associate Director, (202) 250-1577, Division of Supervision and Regulation; Asad Kudiya, Associate General Counsel, (202) 475-6358, Legal Division, Board of Governors of the Federal Reserve System, 20th Street and Constitution Avenue NW, Washington, DC 20551.

FDIC: Andrew Carayiannis, Chief, Policy and Risk Analytics Section; Lauren Brown, Senior Policy Analyst, Capital Markets and Accounting Policy Branch, Division of Risk Management Supervision; Karlyn Hunter, Counsel, Legal Division; (202) 898-6888; Federal Deposit Insurance Corporation, 3701 Fairfax Drive, Arlington, VA 22203.

SUPPLEMENTARY INFORMATION:

I. Background

On October 30, 2023, after issuing separate requests for comment,¹ the agencies jointly issued Principles for Climate-Related Financial Risk Management (principles).² These principles were intended for financial institutions ³ with over $100 billion in total consolidated assets. On March 31, 2025, the OCC withdrew its participation in the principles.⁴

¹ OCC Bulletin 2021-62, Risk Management: Principles for Climate-Related Financial Risk Management for Large Banks; Request for Feedback, (December 16, 2021); FDIC, Request for Comment on a Statement of Principles for Climate-Related Financial Risk Management for Large Financial Institutions, 87 FR 19507 (April 4, 2022); Board, Principles for Climate-Related Financial Risk Management for Large Financial Institutions, 87 FR 75267 (December 8, 2022).

² 88 FR 74183 (October 30, 2023).

³ In this issuance, the term “financial institution” or “institution” includes national banks, Federal savings associations, U.S. branches and agencies of foreign banks, state nonmember banks, state savings associations, state member banks, bank holding companies, savings and loan holding companies, intermediate holding companies, foreign banking organizations with respect to their U.S. operations, and non-bank systemically important financial institutions (SIFIs) supervised by the Board.

⁴ OCC Withdraws Principles for Climate-Related Financial Risk Management for Large Financial Institutions, News Release 2025-27 (March 31, 2025).

II. Rescission of Guidance

The agencies' existing safety and soundness standards require all insured depository institutions to have effective risk management processes commensurate with the size, complexity and risk of their activities.⁵ In addition, financial institutions of all sizes are expected to consider and appropriately address all material risks in their operating environment and should be resilient to a range of risks, including emerging risks.⁶ The agencies do not believe principles for the management of climate-related financial risk are necessary and are concerned that such principles could distract from the management of other potential risks identified and addressed by financial institutions' existing risk management processes and the agencies' other risk management rules and guidance.⁷ Therefore, the principles are rescinded.

⁵ Section 39 of the Federal Deposit Insurance Act, 12 U.S.C. 1831p-1, requires the FDIC, Board, and OCC to prescribe safety and soundness standards for insured depository institutions. Such standards were implemented by rule in 12 CFR part 364, appendix A (FDIC), 12 CFR part 208, appendix D-1 (Board), and 12 CFR part 30, appendix A (OCC). These guidelines address, among other things, operational and managerial standards relating to (1) internal controls, information systems and internal audit systems; (2) loan documentation; (3) credit underwriting; and (4) interest rate risk exposure.

⁶ See, e.g., SR Letter 95-51 (as revised June 23, 2025); SR Letter 21-3 (February 26, 2021); OCC Comptroller's Handbook, Bank Supervision Process; FDIC Risk Management Manual of Examination Policies, Section 4.1 Management.

⁷ Neither the principles nor this rescission requires or prohibits financial institutions' consideration of any particular risk or set of risks, nor do they create any rights or obligations for financial institutions.

III. Administrative Law Matters

A. Executive Order 12866

Pursuant to section 3(f) of Executive Order 12866, the Office of Information and Regulatory Affairs within the Office of Management and Budget (OMB) has determined that the rescission is a “significant regulatory action.”

B. Paperwork Reduction Act

The Paperwork Reduction Act of 1995 (44 U.S.C. 3501-3521) (PRA) states that no agency may conduct or sponsor, nor is the respondent required to respond to, an information collection unless it displays a currently valid OMB control number.

The rescission does not create any new, or revise any existing, collections of information under the PRA. Therefore, no information collection request will be submitted to the OMB for review.

Jonathan V. Gould,
Comptroller of the Currency.
By order of the Board of Governors of the Federal Reserve System.
Benjamin W. McDonough,
Deputy Secretary of the Board.
Federal Deposit Insurance Corporation.
By order of the Board of Directors.
Dated at Washington, DC on September 25, 2025.
Jennifer M. Jones,
Deputy Executive Secretary.

[FR Doc. 2025-20213 Filed 11-17-25; 8:45 am]

BILLING CODE 6210-01-P; 4810-33-P; 6714-01-P